DEPARTMENT OF STATE

[Public Notice 4226]

Shipping Coordinating Committee; Notice of Meeting

The Shipping Coordinating Committee (SHC) will conduct an open meeting at 10 a.m. on Wednesday, April 23, 2003 in Room 2415 at U.S. Coast Guard Headquarters, 2100 Second Street, SW., Washington, DC. The purpose of this meeting is to prepare for the eighty-sixth session of the International Maritime Organization's (IMO) Legal Committee (LEG 86) scheduled from April 28 to May 2, 2003.

The provisional LEG 86 agenda calls for the Legal Committee to review proposed amendments to the Convention for the Suppression of Unlawful Acts against the Safety of Maritime Navigation, 1988, and its Protocol of 1988 relating to Fixed Platforms Located on the Continental Shelf (SUA Convention and Protocol). The Committee will also examine the draft Wreck Removal Convention with the objective of having the draft ready for a Diplomatic Conference in the 2004-5 biennium. In addition, the Legal Committee will monitor the implementation of the International Convention on Liability and Compensation for Damage in Connection With the Carriage of Hazardous and Noxious Substances by Sea. The provisional LEG 86 agenda also indicates that documents relating to the topic of places of refuge, treatment of persons rescued at sea, and the code of practice for the investigation of crimes of piracy and armed robbery at sea may be submitted for the Legal Committee's consideration. Additionally, the provisional LEG 86 agenda allots time to address any other issues that may arise on the Legal Committee's work program.

Members of the public are invited to attend the SHC meeting up to the seating capacity of the room. To facilitate the building security process, those who plan to attend should call or send an e-mail two days before the meeting. Upon request, participating by phone may be an option. For further information please contact Captain Joseph F. Ahern or Lieutenant Vasilios Tasikas, at U.S. Coast Guard, Office of Maritime and International Law (G-LMI), 2100 Second Street, SW., Washington, DC 20593-0001; e-mail vtasikas@comdt.uscg.mil, telephone (202) 267-1527; fax (202) 267-4496.

Dated: January 31, 2003.
Frederick J. Kenney,
Executive Secretary, Shipping Coordinating Committee, Department of State.

[FR Doc. 03-4615 Filed 2-26-03; 8:45 am]

BILLING CODE 4710-01-P